DEPARTMENT OF ENERGY

Federal Energy Regulatory Commission

[Project No. 14787-000]

Black Canyon Hydro, LLC; Notice of Preliminary Permit Application Accepted for Filing and Soliciting Comments, Motions To Intervene, and Competing Applications

On June 13, 2016, the Black Canyon Hydro, LLC filed an application for a preliminary permit, pursuant to section 4(f) of the Federal Power Act (FPA), proposing to study the feasibility of the Seminoe Pumped Storage Project (project) to be located at the U.S. Bureau of Reclamation's (Reclamation) Seminoe Reservoir on the North Platte River, near Rawlins, Carbon County, Wyoming. The project would occupy lands managed by the U.S. Bureau of Reclamation and the U.S. Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) Two new intake structures located in Reclamation's 20,291-acre Seminoe Reservoir; (2) two new concrete-faced, rock-fill upper reservoirs—one 85 acres and one 63 acres—located on either side of, and about 1,000 feet above, Seminoe Reservoir; (3) a 3,000-foot-long, 18.8-foot diameter, low pressure tunnel and 1,250-foot-long, 18.8-foot-diameter, pressure shaft leading to a 250-foot-long, 65-foot-wide, 170-foot-high powerhouse located 1,300 feet east of Seminoe Reservoir in an underground cavern with a 2,800-foot-long access tunnel and a 1,300-foot-long, 22.6-foot wide tailrace; (5) a 1,300-foot-long, 22.6-foot-diameter, low pressure tunnel and 1,800-foot-long, 16.1-foot-diameter pressure shaft leading to a 220-foot-long, 55-foot-wide, 120-foot-high powerhouse located 2,800 feet north-northwest of Seminoe reservoir in an underground cavern with a 800-foot-long access tunnel and a 2,800-foot-long, 19.3-foot-diameter tailrace; (6) three 133.3-megawatt (MW) adjustable-speed, reversible pump turbines in the east powerhouse; and (7) three 100-MW adjustable-speed reversible pump-turbines in the west powerhouse. The project would also include a double-circuit, 230-kilovolt (kV) transmission line connecting either at PacifiCorp's planned Aeolus Substation located northwest of Medicine Bow, Wyoming, or the planned northern terminal for the TransWest Express DC Line near Sinclair, Wyoming. If the Aeolus interconnection alternative is built, the line would parallel the existing Western Area Power Administration's (WAPA) Miracle Mile-Cheyenne-Ault 230-kV transmission line. If the TransWest interconnection alternative is built, the line would parallel or consist of a rebuild of the existing WAPA Miracle Mile-Sinclair, 115 kV transmission line. The estimated annual generation would be 1,839,600 MW-hours.

Applicant Contact: Mr. Matthew Shapiro, Chief Executive Officer, Gridflex Energy, LLC, 1210 W. Franklin Street, Suite 2, Boise, ID 83702, phone: (208) 246-9925.

FERC Contact: Suzanne Novak; phone: (202) 502-6665.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14787-000.

More information about this project, including a copy of the application, can be viewed or printed on the “eLibrary” link of Commission's Web site at http://www.ferc.gov/docs-filing/elibrary.asp. Enter the docket number (P-14787) in the docket number field to access the document. For assistance, contact FERC Online Support.

Dated: June 30, 2016.
Kimberly D. Bose,
Secretary.

[FR Doc. 2016-16167 Filed 7-7-16; 8:45 am]

BILLING CODE 6717-01-P